LEGAL SERVICES CORPORATION

Sunshine Act Meetings of the Board of Directors and Four of the Board's Committees

Times and Dates: The Legal Services Corporation Board of Directors and four of its Committees will meet July 28 and 29, 2006 in the order set forth in the following schedule, with each subsequent meeting commencing shortly after adjournment of the prior meeting.

Meeting Schedule

Friday, July 28, 2006 | Time
1. Provision for the Delivery of Legal Services Committee (Provisions Committee) | 1:30 p.m.
2. Operations & Regulations Committee
Saturday, July 29, 2006 | Time
1. Annual Performance Reviews Committee (Performance Reviews Committee) | 8:30 a.m.
2. Finance Committee
3. Board of Directors

Location: The Westin Providence Hotel, One West Exchange Street, Providence, Rhode Island.

Status of Meetings: Open, except as noted below.

• Status: July 29, 2006 Performance Reviews Committee Meeting—Closed. The meeting of the Performance Reviews Committee may be closed to the public pursuant to a vote of the Board of Directors authorizing the Committee to meet in executive session to consider and act on the annual performance review of the Inspector General. The closing will be authorized by the relevant provision(s) of the Government in the Sunshine Act [5 U.S.C. 552b(c)(10)] and the Legal Services Corporation's corresponding regulation, 45 CFR 1622.5(h). A copy of the General Counsel's Certification that the closing is authorized by law will be available upon request.

• Status: July 29, 2006 Board of Directors Meeting—Open, except that a portion of the meeting of the Board of Directors may be closed to the public pursuant to a vote of the Board of Directors to hold an executive session. At the closed session, the Board will consider and may act on the General Counsel's report on litigation to which the Corporation is or may become a party, receive a briefing from the Inspector General (IG),¹ consider and may act on the report of the Annual Performance Reviews Committee on the performance review of the Corporation's IG, and discuss an internal personnel matter. The closing is authorized by the relevant provisions of the Government in the Sunshine Act [5 U.S.C. 552b(c)(10) and 552b(c)(6)] and LSC's implementing regulation 45 CFR 1622.5(h) and 1622.5(e). A copy of the General Counsel's Certification that the closing is authorized by law will be available upon request.

¹ Any portion of the closed session consisting solely of staff briefings does not fall within the Sunshine Act's definition of the term “meeting” and, therefore, the requirements of the Sunshine Act do not apply to such portion of the closed session. 5 U.S.C. 552(b)(a)(2) and (b). See also 45 CFR 1622.2 and 1622.3.

Matters To Be Considered: Friday, July 28, 2006; Provisions Committee—Agenda

1. Approval of agenda.

2. Approval of the Committee's meeting minutes of April 28, 2006.

3. Panel discussion on The Role of Law Schools, Law Students and Legal Services Programs in Encouraging and Enabling Pro Bono and Public Service.

Moderator: Karen Sarjeant, LSC Vice President for Programs and Compliance.

The panelists will discuss a range of issues related to involving law schools and law students in the delivery of legal services, including: The importance of teaching pro bono and public service involvement to law students; ways in which law schools have integrated pro bono and public service into their law school curricula, such as pro bono or public service requirements in both voluntary and mandatory programs; examples of successful partnerships between legal services programs and law schools; and panelists' suggestions on ways to expand the involvement of law schools and law students with legal services programs.

• Panel Members:

Cindy Adcock, Senior Program Manager—Leadership and Research, Equal Justice Works.

James V. Rowan, Associate Dean for Experiential and Community-Based Education and Research, Northeastern University School of Law.

Ronald W. Staudt, Professor of Law, Associate Vice President for Law, Business and Technology, Chicago-Kent College of Law.

Liz Tobin Tyler, Director of Public Service and Community Partnerships, Feinstein Institute, Roger Williams School of Law.

4. Public comment.

5. Consider and act on other business.

6. Consider and act on adjournment of meeting.

Operations & Regulations Committee—Agenda

Open Session

1. Approval of agenda.

2. Approval of the minutes of the Committee's April 28, 2006 meeting.

3. Consider and act on Draft Notice of Proposed Rulemaking to revise 45 CFR part 1621, Client Grievance Procedure.

a. Staff report.

b. Public comment.

4. Consider and act on rulemaking to revise 45 CFR part 1624, Prohibition Against Discrimination on the Basis of Handicap.

a. Staff report.

b. Public comment.

5. Consider and act on 2007 grant assurances.

a. Staff report.

b. Public comment.

6. Consider and act on other business.

7. Other public comment.

8. Consider and act on adjournment of meeting.

Saturday, July 29, 2006—Performance Reviews Committee—Agenda

Closed Session

1. Approval of agenda.

2. Consider and act on annual performance review of LSC Inspector General.

—Meet with Kirt West.

3. Consider and act on other business.

4. Consider and act on adjournment of meeting.

Finance Committee—Agenda

1. Approval of agenda.

2. Approval of the minutes of the Committee's meeting of April 29, 2006.

3. Presentation on LSC's Financial Reports for the Third Quarter Ending June 30, 2006.

4. Consider and act on FY 2006 Revised Consolidated Operating Budget.

5. Report on the status of the FY 2007 Appropriations process.

6. Consider and act on adoption of FY 2007 Temporary Operating Authority effective October 1, 2006.

7. Discussion regarding planning for FY 2008 budget.

8. Consider and act on adoption of Diversified Investment Advisors LSC Thrift Plan Amendment to the Definition of Section 414: Compensation.

9. Consider and act on adoption of revised budget procedures.

10. Discussion of extent, format, frequency and presentation of financial information to the Committee.

11. Consider and act on other business.

12. Public comment.

13. Consider and act on adjournment of meeting.

Board of Directors—Agenda

Open Session

1. Approval of agenda.

2. Approval of minutes of the Board's meeting of April 29, 2006.

3. Approval of minutes of the Board's telephonic meeting of May 22, 2006.

4. Approval of minutes of the Executive Session of the Board's meeting of April 29, 2006.

5. Chairman's Report.

6. Members' Reports.

7. President's Report.

8. Inspector General's Report.

9. Consider and act on the report of the Committee on Provision for the Delivery of Legal Services.

10. Consider and act on the report of the Finance Committee.

11. Consider and act on the report of the Operations & Regulations Committee.

12. Consider and act on follow-up to the Inspector General's Semiannual Report to Congress for the period of October 1, 2005 through March 31, 2006.

13. Consider and act on Board's meeting schedule for calendar year 2007.

14. Consider and act on other business.

15. Public comment.

16. Consider and act on whether to authorize an executive session of the Board to address items listed below under Closed Session.

Closed Session

17. Consider and act on the report of the Performance Reviews Committee.

18. Consider and act on General Counsel's report on potential and pending litigation involving LSC.

19. IG briefing.

20. Discussion of internal personnel matter.

21. Consider and act on motion to adjourn meeting.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: July 20, 2006.
Victor M. Fortuno,
Vice President for Legal Affairs, General Counsel & Corporate Secretary.

[FR Doc. 06-6470 Filed 7-20-06; 5:06 pm]

BILLING CODE 7050-01-P